DEPARTMENT OF COMMERCE

National Oceanic and Atmospheric Administration

[I.D. 041201A]

Pacific Fishery Management Council; Public Meeting

AGENCY: National Marine Fisheries Service (NMFS), National Oceanic and Atmospheric Administration (NOAA), Commerce.

ACTION: Notice of public meeting.

SUMMARY: The Pacific Fishery Management Council's (Council) Coastal Pelagic Species Management Team (CPSMT) and Coastal Pelagic Species Advisory Subpanel (CPSAS) will hold a public meeting.

DATES: The meeting is scheduled for Friday, May 11, 2001, starting at 10 a.m. and continuing until business for the day is completed.

ADDRESSES: The meeting will be held in the large conference room at the offices of National Marine Fisheries Service, Southwest Region, 501 W Ocean Blvd., Suite 4200, Long Beach, CA 90802.

Council address: Pacific Fishery Management Council, 2130 SW., Fifth Avenue, Suite 224, Portland, OR 97201.

FOR FURTHER INFORMATION CONTACT: Mr. Dan Waldeck, Pacific Fishery Management Council, (503) 326-6352.

SUPPLEMENTARY INFORMATION: The purpose of the meeting is to review the Pacific mackerel stock assessment and harvest guideline for the 2001-2002 fishery; and coastal pelagic species stock assessment and fishery evaluation document.

Although non-emergency issues not contained in the meeting agenda may come before the CPSMT and/or the CPSAS for discussion, those issues may not be the subject of formal CPSMT or CPSAS action during this meetings. CPSMT and/or CPSAS action will be restricted to those issues specifically listed in this notice and any issues arising after publication of this notice that require emergency action under section 305(c) of the Magnuson-Stevens Fishery Conservation and Management Act, provided the public has been notified of the CPSMT's and/or CPSAS's intent to take final action to address the emergency.

Special Accommodations

These meetings are physically accessible to people with disabilities. Requests for sign language interpretation or other auxiliary aids should be directed to Ms. Carolyn Porter at (503) 326-6352 at least five days prior to the meeting date.

Dated: April 13, 2001.
Bruce C. Morehead,
Acting Director, Office of Sustainable Fisheries, National Marine Fisheries Service.

[FR Doc. 01-9735 Filed 4-18-01; 8:45 am]

BILLING CODE 3510-22-S